DEPARTMENT OF HOUSING AND URBAN DEVELOPMENT

[Docket No. FR-5383-N-17]

Notice of Proposed Information Collection for Public Comment Allocation of Operating Subsidies Under the Operating Fund Formula: Data Collection

AGENCY: Office of the Assistant Secretary for Public and Indian Housing, HUD.

ACTION: Notice.

SUMMARY: This notice is being published to revise an existing information collection. The proposed information collection requirement described below will be submitted to the Office of Management and Budget (OMB) for review, as required by the Paperwork Reduction Act. The Department is soliciting public comments on the subject proposal.

DATES: Comments Due Date: November 8, 2010.

ADDRESSES: Interested persons are invited to submit comments regarding this proposal. Comments should refer to the proposal by name/or OMB Control number and should be sent to: Leroy McKinney, Jr., Department Reports Management Officer, QDAM, Department of Housing and Urban Development, 451 7th Street, SW., Room 4178, Washington, DC 20410-5000; telephone 202.402.5564 (this is not a toll-free number) or e-mail Mr. McKinney at Leroy.McKinneyJr@hud.gov. Persons with hearing or speech impairments may access this number through TTY by calling toll-free Federal Information Relay Service at (800) 877-8339. (Other than the HUD USER information line and TTY numbers, telephone numbers are not toll-free.)

FOR FURTHER INFORMATION CONTACT: Arlette Mussington, Office of Policy, Programs and Legislative Initiatives, PIH, Department of Housing and Urban Development, 451 Seventh Street, SW., Washington, DC 20410; telephone: 202-402-4109 (this is not a toll-free number) for copies of the proposed forms and other available documents.

SUPPLEMENTARY INFORMATION: The Department will submit the proposed information collection to OMB for review, as required by the Paperwork Reduction Act of 1995 (44 U.S.C. Chapter 35, as amended). This Notice is soliciting comments from members of the public and affected agencies concerning the revised collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, e.g., permitting electronic submission of responses.

This Notice also lists the following information:

Title of Proposal: Allocation of Operating Subsidies under the Operating Fund Formula.

OMB Control Number: 2577-0029.

Discription of Information Collection: On December 6, 2006, (71 FR 70782), HUD published a notice to inform the public that the U.S. Department of Housing and Urban Development (HUD) would be soliciting comments from the public on the subject forms as part of the Subsidy and Grants Information System submission. For Fiscal Year 2011, the Department is changing its submission methods for the subject forms.

Section 9(f) of the United States Housing Act of 1937 establishes an Operating Fund for the purpose of making assistance available to public housing agencies (PHAs) which assistance is determined using a formula approach under the Operating Fund program. PHAs compute their operating subsidy eligibility by completing the following HUD prescribed forms, as applicable, each fiscal year: Calculation of Utilities Expense Level (HUD-52722); Operating Fund Calculation of Operating Subsidy (HUD-52723); and Calculation of Subsidies for Operations: Non-Rental Housing (HUD-53087). HUD uses the information on these forms to determine the operating subsidy obligation and proration level for each PHA. The forms HUD 52723 and HUD 52722 will be submitted through templates; form HUD 53087 will be submitted via hard copy.

Agency Form Numbers, if Applicable: HUD-52722, HUD-52723, and HUD-53087.

Members of Affected Public: Public Housing Agencies.

Estimation of the total number of hours needed to prepare the information collection including number of respondents, frequency of responses, and hours of response: The estimation number of respondents is 6,997 annually with 1 response per respondent for forms HUD-52722 and HUD-52723 for a total of 13,910 responses; and 1 response per 9 respondents for form HUD-53087 for a total of 9 responses. Average time per response for each form is .75 hours and total annual burden hours are 10,439.25.

Status of the proposed information collection: Revised collection.

Authority: Section 3506 of the Paperwork Reduction Act of 1995, 44 U.S.C. Chapter 35, as amended.

Dated: August 27, 2010.
Merrie Nichols-Dixon,
Acting Deputy Assistant, Secretary for Policy, Programs and Legislative Initiatives.

[FR Doc. 2010-22142 Filed 9-3-10; 8:45 am]

BILLING CODE 4210-67-P